DEPARTMENT OF ENERGY

Federal Energy Regulatory Commission

18 CFR Part 11

[Docket No. RM11-6-000]

Annual Update to Fee Schedule for the Use of Government Lands by Hydropower Licensees

AGENCY: Federal Energy Regulatory Commission, Department of Energy.

ACTION: Final rule.

SUMMARY: In accordance with the Commission's regulations, the Commission, by its designee, the Executive Director, issues this annual update to the fee schedule in the appendix to the part, which lists per-acre rental fees by county (or other geographic area) for use of government lands by hydropower licensees.

DATES: This rule is effective February 6, 2020. The updates to appendix A to part 11, with the fee schedule of per-acre rental fees by county (or other geographic area), are from October 1, 2019, through September 30, 2020 (Fiscal Year 2020).

FOR FURTHER INFORMATION CONTACT: Raven A. Rodriguez, Financial Management Division, Office of the Executive Director, Federal Energy Regulatory Commission, 888 First Street NE, Washington, DC 20426, (202) 502-6276, Raven.Rodriguez@ferc.gov.

SUPPLEMENTARY INFORMATION:

Annual Update to Fee Schedule

Section 11.2 of the Commission's regulations provides a method for computing reasonable annual charges for recompensing the United States for the use, occupancy, and enjoyment of its lands by hydropower licensees.¹ Annual charges for the use of government lands are payable in advance, and are based on an annual schedule of per-acre rental fees published in appendix A to part 11 of the Commission's regulations.² This document updates the fee schedule in appendix A to part 11 for fiscal year 2020 (October 1, 2019, through September 30, 2020).

¹ Annual Charges for the Use of Government Lands, Order No. 774, 78 FR 5256 (January 25, 2013), FERC Stats. & Regs. ¶ 31,341 (2013).

² 18 CFR part 11 (2018).

Effective Date

This final rule is effective February 6, 2020. The provisions of 5 U.S.C. 804, regarding Congressional review of final rules, do not apply to this final rule because the rule concerns agency procedure and practice and will not substantially affect the rights or obligations of non-agency parties. This final rule merely updates the fee schedule published in the Code of Federal Regulations to reflect scheduled adjustments, as provided for in § 11.2 of the Commission's regulations.

List of Subjects in 18 CFR Part 11

Public lands.

By the Executive Director.
Issued: January 21, 2020.
Anton C. Porter,
Executive Director, Office of the Executive Director.

In consideration of the foregoing, the Commission amends appendix A to part 11, chapter I, title 18, Code of Federal Regulations, as follows.

PART 11—[AMENDED]

1. The authority citation for part 11 is revised to read as follows:

Authority: 16 U.S.C. 792-828c; 42 U.S.C. 7101-7352.

2. Appendix A to part 11 is revised to read as follows:

Appendix A to Part 11—Fee Schedule for FY 2020
State | County | Fee/acre/yr
Alabama | Autauga | $65.66
| Baldwin | 114.37
| Barbour | 64.98
| Bibb | 60.27
| Blount | 104.38
| Bullock | 62.57
| Butler | 69.79
| Calhoun | 87.54
| Chambers | 74.79
| Cherokee | 98.24
| Chilton | 84.27
| Choctaw | 53.81
| Clarke | 58.77
| Clay | 71.09
| Cleburne | 78.88
| Coffee | 75.76
| Colbert | 81.04
| Conecuh | 57.22
| Coosa | 59.56
| Covington | 64.80
| Crenshaw | 58.30
| Cullman | 120.01
| Dale | 72.13
| Dallas | 52.73
| DeKalb | 108.91
| Elmore | 91.24
| Escambia | 65.27
| Etowah | 102.26
| Fayette | 61.03
| Franklin | 60.45
| Geneva | 62.11
| Greene | 58.33
| Hale | 60.09
| Henry | 64.23
| Houston | 74.82
| Jackson | 75.07
| Jefferson | 129.53
| Lamar | 42.46
| Lauderdale | 85.35
| Lawrence | 87.90
| Lee | 108.48
| Limestone | 116.88
| Lowndes | 49.61
| Macon | 70.62
| Madison | 106.75
| Marengo | 51.22
| Marion | 63.83
| Marshall | 108.95
| Mobile | 116.74
| Monroe | 56.54
| Montgomery | 75.40
| Morgan | 107.26
| Perry | 50.43
| Pickens | 59.41
| Pike | 65.45
| Randolph | 80.75
| Russell | 64.98
| Shelby | 120.66
| St. Clair | 110.31
| Sumter | 40.88
| Talladega | 83.59
| Tallapoosa | 69.36
| Tuscaloosa | 85.20
| Walker | 74.07
| Washington | 48.53
| Wilcox | 48.35
| Winston | 74.75
Alaska | Aleutian Islands | 1.08
| Statewide | 38.87
Arizona | Apache | 3.24
| Cochise | 23.60
| Coconino | 3.52
| Gila | 5.52
| Graham | 9.73
| Greenlee | 26.29
| La Paz | 21.64
| Maricopa | 95.37
| Mohave | 8.13
| Navajo | 4.36
| Pima | 8.78
| Pinal | 40.06
| Santa Cruz | 25.73
| Yavapai | 26.55
| Yuma | 121.60
Arkansas | Arkansas | 60.66
| Ashley | 66.44
| Baxter | 61.01
| Benton | 101.43
| Boone | 58.83
| Bradley | 79.87
| Calhoun | 56.23
| Carroll | 58.15
| Chicot | 60.95
| Clark | 42.25
| Clay | 73.13
| Cleburne | 62.61
| Cleveland | 89.08
| Columbia | 49.34
| Conway | 59.18
| Craighead | 73.36
| Crawford | 68.64
| Crittenden | 63.52
| Cross | 58.15
| Dallas | 36.59
| Desha | 63.78
| Drew | 57.63
| Faulkner | 74.99
| Franklin | 52.09
| Fulton | 36.62
| Garland | 84.33
| Grant | 51.52
| Greene | 78.16
| Hempstead | 46.83
| Hot Spring | 58.72
| Howard | 53.92
| Independence | 47.88
| Izard | 40.39
| Jackson | 57.55
| Jefferson | 66.32
| Johnson | 55.00
| Lafayette | 46.26
| Lawrence | 61.12
| Lee | 63.95
| Lincoln | 63.92
| Little River | 38.45
| Logan | 51.37
| Lonoke | 63.61
| Madison | 62.15
| Marion | 46.06
| Miller | 45.43
| Mississippi | 65.15
| Monroe | 54.97
| Montgomery | 57.32
| Nevada | 43.40
| Newton | 50.46
| Ouachita | 50.94
| Perry | 55.75
| Phillips | 59.69
| Pike | 48.77
| Poinsett | 70.18
| Polk | 60.64
| Pope | 62.78
| Prairie | 57.20
| Pulaski | 78.62
| Randolph | 46.08
| Saline | 80.48
| Scott | 50.26
| Searcy | 38.14
| Sebastian | 60.89
| Sevier | 53.40
| Sharp | 41.57
| St. Francis | 54.12
| Stone | 44.63
| Union | 57.95
| Van Buren | 56.75
| Washington | 94.03
| White | 58.81
| Woodruff | 57.06
| Yell | 51.94
California | Alameda | 47.60
| Alpine | 37.00
| Amador | 33.94
| Butte | 65.56
| Calaveras | 28.15
| Colusa | 46.86
| Contra Costa | 72.69
| Del Norte | 75.20
| El Dorado | 70.98
| Fresno | 71.49
| Glenn | 39.62
| Humboldt | 22.29
| Imperial | 60.42
| Inyo | 6.72
| Kern | 38.26
| Kings | 52.04
| Lake | 52.53
| Lassen | 16.63
| Los Angeles | 107.49
| Madera | 65.69
| Marin | 53.74
| Mariposa | 18.15
| Mendocino | 34.62
| Merced | 66.76
| Modoc | 14.85
| Mono | 24.31
| Monterey | 42.21
| Napa | 188.10
| Nevada | 93.47
| Orange | 188.55
| Placer | 92.00
| Plumas | 15.33
| Riverside | 88.11
| Sacramento | 61.56
| San Benito | 24.54
| San Bernardino | 116.09
| San Diego | 154.99
| San Francisco | 1,088.06
| San Joaquin | 87.05
| San Luis Obispo | 36.34
| San Mateo | 97.48
| Santa Barbara | 63.54
| Santa Clara | 57.91
| Santa Cruz | 106.90
| Shasta | 24.17
| Sierra | 12.97
| Siskiyou | 17.59
| Solano | 47.95
| Sonoma | 126.14
| Stanislaus | 83.14
| Sutter | 57.10
| Tehama | 25.69
| Trinity | 9.84
| Tulare | 65.01
| Tuolumne | 39.96
| Ventura | 134.78
| Yolo | 48.68
| Yuba | 49.98
Colorado | Adams | 27.32
| Alamosa | 27.72
| Arapahoe | 32.05
| Archuleta | 40.85
| Baca | 10.58
| Bent | 8.84
| Boulder | 108.70
| Broomfield | 37.28
| Chaffee | 57.51
| Cheyenne | 14.79
| Clear Creek | 52.19
| Conejos | 28.86
| Costilla | 20.90
| Crowley | 6.51
| Custer | 28.96
| Delta | 63.12
| Denver | 1,031.44
| Dolores | 27.44
| Douglas | 95.53
| Eagle | 74.92
| El Paso | 22.97
| Elbert | 21.33
| Fremont | 44.48
| Garfield | 52.83
| Gilpin | 53.88
| Grand | 43.49
| Gunnison | 53.59
| Hinsdale | 100.67
| Huerfano | 16.43
| Jackson | 19.83
| Jefferson | 104.47
| Kiowa | 12.98
| Kit Carson | 21.54
| La Plata | 35.33
| Lake | 55.47
| Larimer | 58.63
| Las Animas | 7.70
| Lincoln | 9.08
| Logan | 16.52
| Mesa | 64.05
| Mineral | 82.60
| Moffat | 13.88
| Montezuma | 21.07
| Montrose | 54.61
| Morgan | 27.13
| Otero | 12.41
| Ouray | 54.02
| Park | 25.32
| Phillips | 34.43
| Pitkin | 106.47
| Prowers | 13.08
| Pueblo | 13.96
| Rio Blanco | 25.27
| Rio Grande | 44.96
| Routt | 42.18
| Saguache | 28.27
| San Juan | 24.35
| San Miguel | 27.72
| Sedgwick | 24.18
| Summit | 63.22
| Teller | 38.16
| Washington | 18.59
| Weld | 37.64
| Yuma | 26.06
Connecticut | Fairfield | 333.62
| Hartford | 347.35
| Litchfield | 313.12
| Middlesex | 386.60
| New Haven | 345.05
| New London | 283.80
| Tolland | 272.67
| Windham | 209.52
Delaware | Kent | 228.60
| New Castle | 283.94
| Sussex | 224.42
Florida | Alachua | 109.21
| Baker | 131.53
| Bay | 105.36
| Bradford | 84.84
| Brevard | 109.85
| Broward | 464.98
| Calhoun | 43.09
| Charlotte | 102.82
| Citrus | 134.35
| Clay | 71.42
| Collier | 90.95
| Columbia | 92.04
| Dade | 515.83
| DeSoto | 95.29
| Dixie | 79.99
| Duval | 140.71
| Escambia | 99.02
| Flagler | 86.01
| Franklin | 39.41
| Gadsden | 89.89
| Gilchrist | 67.62
| Glades | 62.01
| Gulf | 84.89
| Hamilton | 58.56
| Hardee | 83.70
| Hendry | 82.33
| Hernando | 170.31
| Highlands | 59.60
| Hillsborough | 183.68
| Holmes | 57.27
| Indian River | 78.24
| Jackson | 68.33
| Jefferson | 85.47
| Lafayette | 83.67
| Lake | 152.96
| Lee | 192.45
| Leon | 111.62
| Levy | 121.18
| Liberty | 54.89
| Madison | 68.33
| Manatee | 113.42
| Marion | 189.76
| Martin | 133.54
| Monroe | 385.06
| Nassau | 97.11
| Okaloosa | 73.60
| Okeechobee | 93.18
| Orange | 169.73
| Osceola | 80.10
| Palm Beach | 143.86
| Pasco | 137.21
| Pinellas | 611.60
| Polk | 111.19
| Putnam | 112.18
| Santa Rosa | 159.73
| Sarasota | 133.03
| Seminole | 96.53
| St. Johns | 71.80
| St. Lucie | 97.67
| Sumter | 108.55
| Suwannee | 81.44
| Taylor | 77.20
| Union | 72.51
| Volusia | 124.53
| Wakulla | 71.07
| Walton | 58.36
| Washington | 58.31
Georgia | Appling | 64.39
| Atkinson | 73.39
| Bacon | 79.65
| Baker | 75.49
| Baldwin | 67.31
| Banks | 151.08
| Barrow | 151.05
| Bartow | 121.83
| Ben Hill | 69.75
| Berrien | 72.95
| Bibb | 89.86
| Bleckley | 64.01
| Brantley | 79.55
| Brooks | 90.82
| Bryan | 80.65
| Bulloch | 66.59
| Burke | 61.95
| Butts | 95.81
| Calhoun | 60.26
| Camden | 59.95
| Candler | 65.52
| Carroll | 121.97
| Catoosa | 155.90
| Charlton | 56.10
| Chatham | 141.97
| Chattahoochee | 57.20
| Chattooga | 84.67
| Cherokee | 260.88
| Clarke | 155.31
| Clay | 45.48
| Clayton | 153.25
| Clinch | 74.53
| Cobb | 336.47
| Coffee | 72.40
| Colquitt | 80.78
| Columbia | 135.03
| Cook | 75.66
| Coweta | 135.92
| Crawford | 84.81
| Crisp | 57.48
| Dade | 86.97
| Dawson | 214.03
| Decatur | 78.58
| DeKalb | 76.45
| Dodge | 60.57
| Dooly | 64.49
| Dougherty | 90.13
| Douglas | 181.27
| Early | 59.06
| Echols | 72.57
| Effingham | 76.42
| Elbert | 97.28
| Emanuel | 58.65
| Evans | 71.16
| Fannin | 178.89
| Fayette | 168.03
| Floyd | 107.18
| Forsyth | 302.37
| Franklin | 148.85
| Fulton | 186.46
| Gilmer | 168.89
| Glascock | 50.81
| Glynn | 107.87
| Gordon | 131.94
| Grady | 84.63
| Greene | 88.72
| Gwinnett | 284.22
| Habersham | 158.03
| Hall | 225.85
| Hancock | 94.16
| Haralson | 115.85
| Harris | 132.07
| Hart | 142.49
| Heard | 95.50
| Henry | 157.72
| Houston | 85.18
| Irwin | 69.92
| Jackson | 152.32
| Jasper | 95.22
| Jeff Davis | 91.34
| Jefferson | 54.93
| Jenkins | 51.67
| Johnson | 49.40
| Jones | 87.35
| Lamar | 105.53
| Lanier | 93.71
| Laurens | 56.41
| Lee | 79.13
| Liberty | 58.10
| Lincoln | 76.25
| Long | 67.72
| Lowndes | 97.28
| Lumpkin | 247.34
| Macon | 61.77
| Madison | 78.82
| Marion | 70.99
| McDuffie | 70.47
| McIntosh | 154.45
| Meriwether | 87.21
| Miller | 67.79
| Mitchell | 78.65
| Monroe | 93.78
| Montgomery | 47.51
| Morgan | 120.21
| Murray | 117.91
| Muscogee | 141.29
| Newton | 116.16
| Oconee | 198.63
| Oglethorpe | 89.07
| Paulding | 179.96
| Peach | 109.97
| Pickens | 184.67
| Pierce | 65.49
| Pike | 100.38
| Polk | 99.18
| Pulaski | 71.98
| Putnam | 104.57
| Quitman | 58.65
| Rabun | 194.64
| Randolph | 53.21
| Richmond | 72.88
| Rockdale | 192.03
| Schley | 62.50
| Screven | 58.68
| Seminole | 74.32
| Spalding | 143.80
| Stephens | 145.00
| Stewart | 53.97
| Sumter | 62.26
| Talbot | 57.31
| Taliaferro | 60.57
| Tattnall | 76.38
| Taylor | 55.69
| Telfair | 52.32
| Terrell | 65.01
| Thomas | 91.96
| Tift | 87.35
| Toombs | 65.21
| Towns | 162.60
| Treutlen | 49.33
| Troup | 109.49
| Turner | 65.56
| Twiggs | 68.79
| Union | 165.42
| Upson | 86.90
| Walker | 107.46
| Walton | 147.61
| Ware | 67.86
| Warren | 55.52
| Washington | 56.86
| Wayne | 75.52
| Webster | 48.75
| Wheeler | 41.05
| White | 188.83
| Whitfield | 133.28
| Wilcox | 67.07
| Wilkes | 76.38
| Wilkinson | 58.68
| Worth | 71.06
Hawaii | Hawaii | 176.86
| Honolulu | 446.78
| Kauai | 168.34
| Maui | 217.87
Idaho | Ada | 65.60
| Adams | 18.91
| Bannock | 22.47
| Bear Lake | 17.67
| Benewah | 19.73
| Bingham | 27.78
| Blaine | 35.52
| Boise | 17.64
| Bonner | 54.28
| Bonneville | 28.81
| Boundary | 42.51
| Butte | 19.14
| Camas | 18.44
| Canyon | 66.29
| Caribou | 17.42
| Cassia | 29.12
| Clark | 18.10
| Clearwater | 23.40
| Custer | 28.62
| Elmore | 25.44
| Franklin | 24.95
| Fremont | 27.75
| Gem | 34.32
| Gooding | 47.61
| Idaho | 17.34
| Jefferson | 32.57
| Jerome | 47.73
| Kootenai | 51.45
| Latah | 22.41
| Lemhi | 27.63
| Lewis | 17.43
| Lincoln | 32.63
| Madison | 41.19
| Minidoka | 43.10
| Nez Perce | 20.91
| Oneida | 14.76
| Owyhee | 15.26
| Payette | 37.56
| Power | 18.80
| Shoshone | 74.33
| Teton | 40.93
| Twin Falls | 38.41
| Valley | 30.73
| Washington | 12.42
Illinois | Adams | 143.74
| Alexander | 96.20
| Bond | 188.26
| Boone | 199.28
| Brown | 116.02
| Bureau | 213.35
| Calhoun | 110.60
| Carroll | 198.95
| Cass | 162.72
| Champaign | 231.65
| Christian | 220.44
| Clark | 142.94
| Clay | 138.61
| Clinton | 170.14
| Coles | 205.13
| Cook | 304.68
| Crawford | 145.41
| Cumberland | 158.29
| De Witt | 209.13
| DeKalb | 228.48
| Douglas | 221.39
| DuPage | 202.15
| Edgar | 191.09
| Edwards | 117.08
| Effingham | 168.65
| Fayette | 129.66
| Ford | 220.59
| Franklin | 107.91
| Fulton | 152.72
| Gallatin | 127.84
| Greene | 164.03
| Grundy | 221.64
| Hamilton | 105.33
| Hancock | 166.61
| Hardin | 102.89
| Henderson | 180.11
| Henry | 198.77
| Iroquois | 197.89
| Jackson | 114.57
| Jasper | 147.41
| Jefferson | 104.86
| Jersey | 171.56
| Jo Daviess | 141.26
| Johnson | 87.94
| Kane | 258.20
| Kankakee | 192.40
| Kendall | 252.63
| Knox | 199.82
| La Salle | 229.57
| Lake | 302.50
| Lawrence | 142.50
| Lee | 220.19
| Livingston | 209.13
| Logan | 208.99
| Macon | 227.90
| Macoupin | 180.91
| Madison | 185.67
| Marion | 122.24
| Marshall | 201.46
| Mason | 170.11
| Massac | 104.09
| McDonough | 204.48
| McHenry | 234.81
| McLean | 238.01
| Menard | 184.00
| Mercer | 176.69
| Monroe | 150.68
| Montgomery | 173.31
| Morgan | 194.44
| Moultrie | 223.68
| Ogle | 201.71
| Peoria | 201.35
| Perry | 118.46
| Piatt | 251.80
| Pike | 143.05
| Pope | 75.80
| Pulaski | 117.04
| Putnam | 183.13
| Randolph | 129.73
| Richland | 127.88
| Rock Island | 181.42
| Saline | 122.72
| Sangamon | 214.37
| Schuyler | 127.37
| Scott | 169.38
| Shelby | 175.67
| St. Clair | 183.71
| Stark | 216.41
| Stephenson | 197.89
| Tazewell | 216.44
| Union | 103.15
| Vermilion | 204.91
| Wabash | 154.54
| Warren | 201.39
| Washington | 150.72
| Wayne | 130.06
| White | 130.43
| Whiteside | 199.06
| Will | 227.90
| Williamson | 128.24
| Winnebago | 184.15
| Woodford | 225.50
Indiana | Adams | 168.47
| Allen | 179.52
| Bartholomew | 170.91
| Benton | 187.77
| Blackford | 122.93
| Boone | 179.45
| Brown | 116.38
| Carroll | 198.49
| Cass | 157.38
| Clark | 122.93
| Clay | 126.71
| Clinton | 194.02
| Crawford | 74.48
| Daviess | 188.39
| Dearborn | 118.38
| Decatur | 154.73
| DeKalb | 128.78
| Delaware | 154.11
| Dubois | 130.05
| Elkhart | 234.59
| Fayette | 135.14
| Floyd | 155.02
| Fountain | 139.50
| Franklin | 133.10
| Fulton | 146.08
| Gibson | 154.95
| Grant | 162.22
| Greene | 114.64
| Hamilton | 186.90
| Hancock | 166.25
| Harrison | 107.04
| Hendricks | 169.63
| Henry | 144.01
| Howard | 184.72
| Huntington | 158.55
| Jackson | 133.25
| Jasper | 178.32
| Jay | 190.90
| Jefferson | 102.94
| Jennings | 113.29
| Johnson | 177.12
| Knox | 164.18
| Kosciusko | 170.58
| LaGrange | 216.56
| Lake | 164.94
| LaPorte | 176.90
| Lawrence | 92.25
| Madison | 175.27
| Marion | 186.75
| Marshall | 151.28
| Martin | 117.40
| Miami | 147.39
| Monroe | 140.48
| Montgomery | 162.40
| Morgan | 143.14
| Newton | 164.98
| Noble | 140.56
| Ohio | 103.52
| Orange | 101.41
| Owen | 98.76
| Parke | 121.22
| Perry | 87.20
| Pike | 124.20
| Porter | 174.25
| Posey | 139.50
| Pulaski | 149.82
| Putnam | 122.05
| Randolph | 147.93
| Ripley | 118.60
| Rush | 177.05
| Scott | 104.43
| Shelby | 178.10
| Spencer | 112.53
| St. Joseph | 178.54
| Starke | 127.43
| Steuben | 130.45
| Sullivan | 121.47
| Switzerland | 102.57
| Tippecanoe | 195.73
| Tipton | 212.38
| Union | 144.08
| Vanderburgh | 123.04
| Vermillion | 138.16
| Vigo | 112.71
| Wabash | 150.26
| Warren | 171.27
| Warrick | 141.21
| Washington | 96.57
| Wayne | 150.55
| Wells | 184.06
| White | 198.82
| Whitley | 149.39
Iowa | Adair | 136.33
| Adams | 125.07
| Allamakee | 123.98
| Appanoose | 86.50
| Audubon | 194.13
| Benton | 210.34
| Black Hawk | 232.19
| Boone | 219.88
| Bremer | 224.72
| Buchanan | 213.65
| Buena Vista | 212.74
| Butler | 198.97
| Calhoun | 223.92
| Carroll | 219.22
| Cass | 159.20
| Cedar | 208.95
| Cerro Gordo | 193.22
| Cherokee | 216.27
| Chickasaw | 208.55
| Clarke | 98.41
| Clay | 215.18
| Clayton | 139.46
| Clinton | 206.95
| Crawford | 201.56
| Dallas | 196.02
| Davis | 85.74
| Decatur | 87.05
| Delaware | 209.97
| Des Moines | 162.40
| Dickinson | 205.75
| Dubuque | 177.52
| Emmet | 212.12
| Fayette | 200.43
| Floyd | 186.52
| Franklin | 193.65
| Fremont | 178.94
| Greene | 202.87
| Grundy | 234.01
| Guthrie | 168.92
| Hamilton | 236.63
| Hancock | 202.72
| Hardin | 215.18
| Harrison | 169.69
| Henry | 143.61
| Howard | 192.09
| Humboldt | 222.25
| Ida | 197.73
| Iowa | 176.35
| Jackson | 155.34
| Jasper | 181.16
| Jefferson | 133.78
| Johnson | 200.10
| Jones | 195.18
| Keokuk | 145.21
| Kossuth | 221.66
| Lee | 124.34
| Linn | 195.88
| Louisa | 167.32
| Lucas | 83.73
| Lyon | 240.24
| Madison | 142.85
| Mahaska | 163.83
| Marion | 130.03
| Marshall | 192.96
| Mills | 184.04
| Mitchell | 214.82
| Monona | 160.00
| Monroe | 92.40
| Montgomery | 163.46
| Muscatine | 183.24
| O'Brien | 248.76
| Osceola | 205.09
| Page | 146.60
| Palo Alto | 219.19
| Plymouth | 214.23
| Pocahontas | 222.46
| Polk | 205.49
| Pottawattamie | 204.91
| Poweshiek | 177.16
| Ringgold | 99.65
| Sac | 216.20
| Scott | 236.52
| Shelby | 197.33
| Sioux | 265.30
| Story | 228.36
| Tama | 189.47
| Taylor | 111.52
| Union | 100.27
| Van Buren | 101.25
| Wapello | 120.19
| Warren | 149.00
| Washington | 177.96
| Wayne | 94.19
| Webster | 214.23
| Winnebago | 196.60
| Winneshiek | 173.62
| Woodbury | 174.06
| Worth | 179.05
| Wright | 210.04
Kansas | Allen | 40.00
| Anderson | 44.61
| Atchison | 61.69
| Barber | 34.80
| Barton | 44.90
| Bourbon | 41.46
| Brown | 93.71
| Butler | 50.42
| Chase | 38.85
| Chautauqua | 33.09
| Cherokee | 53.35
| Cheyenne | 45.37
| Clark | 26.07
| Clay | 60.48
| Cloud | 57.04
| Coffey | 43.72
| Comanche | 26.39
| Cowley | 41.03
| Crawford | 47.98
| Decatur | 43.68
| Dickinson | 57.79
| Doniphan | 103.09
| Douglas | 81.75
| Edwards | 61.12
| Elk | 36.34
| Ellis | 38.17
| Ellsworth | 37.99
| Finney | 41.21
| Ford | 34.88
| Franklin | 66.49
| Geary | 55.54
| Gove | 36.84
| Graham | 37.78
| Grant | 38.17
| Gray | 38.24
| Greeley | 42.61
| Greenwood | 40.35
| Hamilton | 28.97
| Harper | 43.47
| Harvey | 73.62
| Haskell | 39.46
| Hodgeman | 30.79
| Jackson | 50.42
| Jefferson | 64.09
| Jewell | 55.29
| Johnson | 124.32
| Kearny | 37.17
| Kingman | 40.93
| Kiowa | 35.31
| Labette | 42.57
| Lane | 36.84
| Leavenworth | 92.67
| Lincoln | 42.79
| Linn | 50.42
| Logan | 33.80
| Lyon | 44.69
| Marion | 60.41
| Marshall | 77.13
| McPherson | 64.67
| Meade | 34.95
| Miami | 89.70
| Mitchell | 64.17
| Montgomery | 44.33
| Morris | 42.07
| Morton | 24.24
| Nemaha | 80.85
| Neosho | 42.90
| Ness | 29.83
| Norton | 37.95
| Osage | 46.58
| Osborne | 39.24
| Ottawa | 53.92
| Pawnee | 52.21
| Phillips | 35.84
| Pottawatomie | 54.64
| Pratt | 45.83
| Rawlins | 49.95
| Reno | 51.45
| Republic | 75.95
| Rice | 45.76
| Riley | 52.38
| Rooks | 37.60
| Rush | 37.17
| Russell | 32.73
| Saline | 56.61
| Scott | 43.47
| Sedgwick | 68.07
| Seward | 32.98
| Shawnee | 71.29
| Sheridan | 54.96
| Sherman | 48.91
| Smith | 46.48
| Stafford | 50.63
| Stanton | 31.72
| Stevens | 39.28
| Sumner | 51.35
| Thomas | 61.09
| Trego | 37.60
| Wabaunsee | 42.11
| Wallace | 36.13
| Washington | 66.85
| Wichita | 38.89
| Wilson | 41.18
| Woodson | 39.42
| Wyandotte | 137.75
Kentucky | Adair | 74.21
| Allen | 85.66
| Anderson | 90.33
| Ballard | 98.63
| Barren | 85.37
| Bath | 56.56
| Bell | 56.38
| Boone | 178.85
| Bourbon | 123.38
| Boyd | 67.61
| Boyle | 98.70
| Bracken | 60.73
| Breathitt | 41.45
| Breckinridge | 69.53
| Bullitt | 105.66
| Butler | 58.63
| Caldwell | 79.28
| Calloway | 86.02
| Campbell | 127.33
| Carlisle | 82.00
| Carroll | 76.45
| Carter | 50.94
| Casey | 58.88
| Christian | 100.11
| Clark | 95.15
| Clay | 46.16
| Clinton | 75.18
| Crittenden | 62.39
| Cumberland | 49.50
| Daviess | 112.58
| Edmonson | 68.95
| Elliott | 39.35
| Estill | 53.55
| Fayette | 264.14
| Fleming | 60.76
| Floyd | 42.68
| Franklin | 106.78
| Fulton | 101.16
| Gallatin | 87.72
| Garrard | 71.63
| Grant | 88.70
| Graves | 93.99
| Grayson | 65.80
| Green | 65.66
| Greenup | 51.31
| Hancock | 81.53
| Hardin | 101.60
| Harlan | 38.34
| Harrison | 79.13
| Hart | 64.31
| Henderson | 105.84
| Henry | 96.89
| Hickman | 100.87
| Hopkins | 84.13
| Jackson | 52.68
| Jefferson | 250.23
| Jessamine | 158.63
| Johnson | 50.73
| Kenton | 126.38
| Knott | 39.20
| Knox | 50.69
| Larue | 99.21
| Laurel | 99.97
| Lawrence | 41.05
| Lee | 55.15
| Leslie | 125.98
| Letcher | 67.03
| Lewis | 42.57
| Lincoln | 72.14
| Livingston | 61.67
| Logan | 97.07
| Lyon | 58.70
| Madison | 87.47
| Magoffin | 42.97
| Marion | 78.05
| Marshall | 88.63
| Martin | 145.91
| Mason | 74.71
| McCracken | 89.21
| McCreary | 51.89
| McLean | 108.99
| Meade | 94.03
| Menifee | 51.81
| Mercer | 97.94
| Metcalfe | 65.40
| Monroe | 68.37
| Montgomery | 79.50
| Morgan | 36.99
| Muhlenberg | 67.36
| Nelson | 97.47
| Nicholas | 62.58
| Ohio | 70.95
| Oldham | 181.10
| Owen | 66.85
| Owsley | 39.10
| Pendleton | 68.63
| Perry | 34.97
| Pike | 38.66
| Powell | 46.09
| Pulaski | 83.95
| Robertson | 52.39
| Rockcastle | 58.92
| Rowan | 61.81
| Russell | 89.28
| Scott | 132.54
| Shelby | 141.49
| Simpson | 120.66
| Spencer | 90.84
| Taylor | 80.66
| Todd | 106.96
| Trigg | 85.80
| Trimble | 91.49
| Union | 118.96
| Warren | 104.53
| Washington | 74.21
| Wayne | 65.91
| Webster | 92.58
| Whitley | 62.83
| Wolfe | 43.12
| Woodford | 236.39
Louisiana | Acadia | 60.98
| Allen | 57.75
| Ascension | 96.70
| Assumption | 83.75
| Avoyelles | 62.35
| Beauregard | 68.64
| Bienville | 65.37
| Bossier | 92.41
| Caddo | 74.82
| Calcasieu | 70.53
| Caldwell | 68.05
| Cameron | 48.33
| Catahoula | 66.71
| Claiborne | 69.19
| Concordia | 63.41
| De Soto | 74.44
| East Baton Rouge | 157.92
| East Carroll | 75.27
| East Feliciana | 81.93
| Evangeline | 58.30
| Franklin | 62.66
| Grant | 58.64
| Iberia | 86.16
| Iberville | 49.54
| Jackson | 77.77
| Jefferson | 104.54
| Jefferson Davis | 62.45
| La Salle | 70.49
| Lafayette | 131.09
| Lafourche | 59.02
| Lincoln | 91.45
| Livingston | 157.95
| Madison | 67.81
| Morehouse | 65.06
| Natchitoches | 66.71
| Orleans | 425.66
| Ouachita | 80.14
| Plaquemines | 34.70
| Pointe Coupee | 75.40
| Rapides | 69.87
| Red River | 53.69
| Richland | 63.11
| Sabine | 87.39
| St. Bernard | 45.69
| St. Charles | 59.53
| St. Helena | 91.96
| St. James | 96.74
| St. John the Baptist | 79.97
| St. Landry | 66.09
| St. Martin | 67.95
| St. Mary | 68.91
| St. Tammany | 201.03
| Tangipahoa | 113.16
| Tensas | 60.39
| Terrebonne | 61.63
| Union | 79.94
| Vermilion | 71.42
| Vernon | 86.84
| Washington | 97.42
| Webster | 95.71
| West Baton Rouge | 103.06
| West Carroll | 58.67
| West Feliciana | 72.52
| Winn | 66.44
Maine | Androscoggin | 70.37
| Aroostook | 39.18
| Cumberland | 134.70
| Franklin | 59.63
| Hancock | 92.46
| Kennebec | 78.67
| Knox | 104.23
| Lincoln | 95.76
| Oxford | 69.79
| Penobscot | 55.31
| Piscataquis | 47.07
| Sagadahoc | 103.72
| Somerset | 58.15
| Waldo | 51.19
| Washington | 42.92
| York | 133.64
Maryland | Allegany | 99.84
| Anne Arundel | 330.99
| Baltimore | 269.85
| Calvert | 215.43
| Caroline | 174.62
| Carroll | 232.79
| Cecil | 207.39
| Charles | 184.45
| Dorchester | 148.97
| Frederick | 217.11
| Garrett | 120.27
| Harford | 236.22
| Howard | 313.33
| Kent | 194.74
| Montgomery | 290.75
| Prince George's | 225.51
| Queen Anne's | 212.78
| Somerset | 156.40
| St. Mary's | 188.74
| Talbot | 189.02
| Washington | 170.98
| Wicomico | 179.63
| Worcester | 170.69
Massachusetts | Barnstable | 893.31
| Berkshire | 175.96
| Bristol | 365.36
| Dukes | 245.51
| Essex | 521.62
| Franklin | 152.38
| Hampden | 183.95
| Hampshire | 202.20
| Middlesex | 479.38
| Nantucket | 667.87
| Norfolk | 608.21
| Plymouth | 288.35
| Suffolk | 5,135.53
| Worcester | 233.93
Michigan | Alcona | 68.83
| Alger | 58.45
| Allegan | 135.26
| Alpena | 68.69
| Antrim | 101.20
| Arenac | 78.57
| Baraga | 52.17
| Barry | 112.39
| Bay | 113.44
| Benzie | 117.72
| Berrien | 157.88
| Branch | 100.35
| Calhoun | 103.81
| Cass | 111.82
| Charlevoix | 104.02
| Cheboygan | 70.10
| Chippewa | 45.82
| Clare | 80.05
| Clinton | 122.69
| Crawford | 93.40
| Delta | 55.10
| Dickinson | 62.44
| Eaton | 105.11
| Emmet | 89.27
| Genesee | 109.21
| Gladwin | 79.63
| Gogebic | 74.09
| Grand Traverse | 150.58
| Gratiot | 127.35
| Hillsdale | 97.24
| Houghton | 50.05
| Huron | 146.91
| Ingham | 115.17
| Ionia | 117.75
| Iosco | 75.47
| Iron | 56.16
| Isabella | 107.48
| Jackson | 107.94
| Kalamazoo | 131.38
| Kalkaska | 85.95
| Kent | 165.40
| Keweenaw | 71.05
| Lake | 73.35
| Lapeer | 129.12
| Leelanau | 190.07
| Lenawee | 114.57
| Livingston | 136.92
| Luce | 64.81
| Mackinac | 58.66
| Macomb | 155.94
| Manistee | 81.18
| Marquette | 57.53
| Mason | 80.62
| Mecosta | 84.36
| Menominee | 56.65
| Midland | 101.66
| Missaukee | 85.42
| Monroe | 128.55
| Montcalm | 94.21
| Montmorency | 64.17
| Muskegon | 144.86
| Newaygo | 100.46
| Oakland | 242.07
| Oceana | 90.96
| Ogemaw | 74.83
| Ontonagon | 47.83
| Osceola | 71.62
| Oscoda | 74.23
| Otsego | 71.34
| Ottawa | 182.34
| Presque Isle | 60.57
| Roscommon | 74.16
| Saginaw | 107.76
| Sanilac | 123.86
| Schoolcraft | 45.85
| Shiawassee | 101.02
| St. Clair | 105.50
| St. Joseph | 134.23
| Tuscola | 128.27
| Van Buren | 125.52
| Washtenaw | 143.87
| Wayne | 210.16
| Wexford | 80.41
Minnesota | Aitkin | 51.21
| Anoka | 175.28
| Becker | 78.92
| Beltrami | 49.36
| Benton | 99.81
| Big Stone | 113.35
| Blue Earth | 186.32
| Brown | 160.32
| Carlton | 54.41
| Carver | 168.31
| Cass | 55.50
| Chippewa | 150.15
| Chisago | 126.50
| Clay | 102.24
| Clearwater | 48.78
| Cook | 137.83
| Cottonwood | 159.63
| Crow Wing | 75.18
| Dakota | 164.89
| Dodge | 178.62
| Douglas | 89.42
| Faribault | 163.40
| Fillmore | 133.29
| Freeborn | 158.46
| Goodhue | 157.41
| Grant | 105.07
| Hennepin | 239.28
| Houston | 100.32
| Hubbard | 65.48
| Isanti | 108.20
| Itasca | 54.73
| Jackson | 177.53
| Kanabec | 66.68
| Kandiyohi | 139.65
| Kittson | 50.96
| Koochiching | 34.18
| Lac qui Parle | 127.45
| Lake | 95.45
| Lake of the Woods | 43.29
| Le Sueur | 161.19
| Lincoln | 112.66
| Lyon | 151.02
| Mahnomen | 59.13
| Marshall | 61.27
| Martin | 178.22
| McLeod | 156.47
| Meeker | 120.87
| Mille Lacs | 79.98
| Morrison | 80.59
| Mower | 173.97
| Murray | 163.98
| Nicollet | 188.54
| Nobles | 171.94
| Norman | 86.95
| Olmsted | 159.01
| Otter Tail | 72.79
| Pennington | 52.77
| Pine | 58.62
| Pipestone | 152.54
| Polk | 84.33
| Pope | 106.53
| Ramsey | 266.59
| Red Lake | 50.85
| Redwood | 183.78
| Renville | 175.93
| Rice | 166.53
| Rock | 204.26
| Roseau | 34.50
| Scott | 180.95
| Sherburne | 124.98
| Sibley | 174.15
| St. Louis | 54.63
| Stearns | 113.35
| Steele | 174.30
| Stevens | 129.81
| Swift | 148.66
| Todd | 68.68
| Traverse | 129.23
| Wabasha | 136.49
| Wadena | 51.83
| Waseca | 170.89
| Washington | 239.35
| Watonwan | 177.57
| Wilkin | 113.39
| Winona | 136.16
| Wright | 155.78
| Yellow Medicine | 133.00
Mississippi | Adams | 61.02
| Alcorn | 52.48
| Amite | 94.63
| Attala | 50.65
| Benton | 44.89
| Bolivar | 68.02
| Calhoun | 51.85
| Carroll | 52.83
| Chickasaw | 51.95
| Choctaw | 55.47
| Claiborne | 56.56
| Clarke | 66.30
| Clay | 46.08
| Coahoma | 70.94
| Copiah | 64.29
| Covington | 82.71
| DeSoto | 74.28
| Forrest | 96.07
| Franklin | 72.06
| George | 94.52
| Greene | 61.16
| Grenada | 51.39
| Hancock | 111.47
| Harrison | 174.32
| Hinds | 64.47
| Holmes | 58.99
| Humphreys | 62.11
| Issaquena | 53.92
| Itawamba | 56.45
| Jackson | 106.23
| Jasper | 56.17
| Jefferson | 59.58
| Jefferson Davis | 55.82
| Jones | 89.67
| Kemper | 48.86
| Lafayette | 63.06
| Lamar | 101.31
| Lauderdale | 67.14
| Lawrence | 75.61
| Leake | 75.30
| Lee | 53.78
| Leflore | 56.74
| Lincoln | 84.29
| Lowndes | 59.69
| Madison | 73.64
| Marion | 83.42
| Marshall | 55.47
| Monroe | 49.18
| Montgomery | 50.02
| Neshoba | 86.65
| Newton | 58.56
| Noxubee | 60.78
| Oktibbeha | 61.94
| Panola | 54.10
| Pearl River | 89.99
| Perry | 80.50
| Pike | 99.90
| Pontotoc | 51.15
| Prentiss | 44.12
| Quitman | 56.63
| Rankin | 84.08
| Scott | 71.08
| Sharkey | 64.47
| Simpson | 77.02
| Smith | 83.13
| Stone | 102.78
| Sunflower | 54.87
| Tallahatchie | 63.24
| Tate | 56.45
| Tippah | 45.77
| Tishomingo | 52.10
| Tunica | 75.96
| Union | 58.28
| Walthall | 84.15
| Warren | 52.80
| Washington | 59.79
| Wayne | 81.94
| Webster | 50.79
| Wilkinson | 63.20
| Winston | 61.09
| Yalobusha | 51.18
| Yazoo | 59.06
Missouri | Adair | 70.17
| Andrew | 101.78
| Atchison | 139.12
| Audrain | 109.36
| Barry | 72.60
| Barton | 60.23
| Bates | 64.87
| Benton | 59.80
| Bollinger | 57.61
| Boone | 104.25
| Buchanan | 98.74
| Butler | 91.09
| Caldwell | 65.09
| Callaway | 93.49
| Camden | 62.26
| Cape Girardeau | 89.62
| Carroll | 89.66
| Carter | 47.57
| Cass | 94.92
| Cedar | 52.14
| Chariton | 85.05
| Christian | 89.37
| Clark | 75.93
| Clay | 122.53
| Clinton | 98.06
| Cole | 83.33
| Cooper | 81.29
| Crawford | 59.51
| Dade | 62.73
| Dallas | 66.56
| Daviess | 79.65
| DeKalb | 80.61
| Dent | 45.85
| Douglas | 46.46
| Dunklin | 107.86
| Franklin | 106.50
| Gasconade | 70.13
| Gentry | 75.43
| Greene | 105.36
| Grundy | 65.88
| Harrison | 71.35
| Henry | 60.76
| Hickory | 55.54
| Holt | 108.69
| Howard | 72.60
| Howell | 53.86
| Iron | 46.06
| Jackson | 115.52
| Jasper | 66.88
| Jefferson | 97.49
| Johnson | 75.68
| Knox | 85.30
| Laclede | 62.94
| Lafayette | 120.88
| Lawrence | 73.32
| Lewis | 82.79
| Lincoln | 111.58
| Linn | 69.13
| Livingston | 83.44
| Macon | 70.88
| Madison | 52.64
| Maries | 55.83
| Marion | 101.89
| McDonald | 66.20
| Mercer | 63.48
| Miller | 63.55
| Mississippi | 118.81
| Moniteau | 77.18
| Monroe | 89.41
| Montgomery | 98.78
| Morgan | 75.71
| New Madrid | 126.89
| Newton | 73.74
| Nodaway | 93.02
| Oregon | 44.53
| Osage | 58.58
| Ozark | 46.46
| Pemiscot | 103.50
| Perry | 76.46
| Pettis | 78.29
| Phelps | 65.84
| Pike | 99.03
| Platte | 111.22
| Polk | 59.12
| Pulaski | 55.72
| Putnam | 59.01
| Ralls | 91.84
| Randolph | 75.25
| Ray | 78.11
| Reynolds | 41.84
| Ripley | 51.32
| Saline | 115.09
| Schuyler | 63.69
| Scotland | 84.01
| Scott | 116.66
| Shannon | 47.78
| Shelby | 101.64
| St. Louis | 118.09
| St. Charles | 121.31
| St. Clair | 47.39
| St. Francois | 71.88
| Ste. Genevieve | 65.95
| Stoddard | 125.67
| Stone | 67.77
| Sullivan | 53.14
| Taney | 56.11
| Texas | 46.96
| Vernon | 61.69
| Warren | 111.01
| Washington | 54.90
| Wayne | 43.70
| Webster | 74.75
| Worth | 64.48
| Wright | 51.43
Montana | Beaverhead | 25.52
| Big Horn | 10.10
| Blaine | 13.68
| Broadwater | 26.18
| Carbon | 26.95
| Carter | 12.30
| Cascade | 24.15
| Chouteau | 18.37
| Custer | 9.21
| Daniels | 11.82
| Dawson | 10.24
| Deer Lodge | 36.91
| Fallon | 10.04
| Fergus | 19.80
| Flathead | 114.30
| Gallatin | 60.48
| Garfield | 11.30
| Glacier | 15.62
| Golden Valley | 12.90
| Granite | 29.21
| Hill | 14.82
| Jefferson | 25.95
| Judith Basin | 20.43
| Lake | 36.57
| Lewis and Clark | 34.68
| Liberty | 13.91
| Lincoln | 85.89
| Madison | 28.67
| McCone | 10.99
| Meagher | 22.00
| Mineral | 101.80
| Missoula | 63.37
| Musselshell | 11.30
| Park | 58.42
| Petroleum | 10.04
| Phillips | 13.16
| Pondera | 18.57
| Powder River | 12.62
| Powell | 21.66
| Prairie | 12.90
| Ravalli | 111.16
| Richland | 13.68
| Roosevelt | 14.48
| Rosebud | 9.44
| Sanders | 27.18
| Sheridan | 13.56
| Silver Bow | 35.91
| Stillwater | 31.96
| Sweet Grass | 24.61
| Teton | 24.06
| Toole | 16.42
| Treasure | 11.50
| Valley | 11.36
| Wheatland | 11.73
| Wibaux | 10.70
| Yellowstone | 17.48
Nebraska | Adams | 140.11
| Antelope | 112.93
| Arthur | 11.22
| Banner | 20.44
| Blaine | 13.61
| Boone | 117.01
| Box Butte | 28.34
| Boyd | 36.50
| Brown | 19.01
| Buffalo | 99.22
| Burt | 138.48
| Butler | 131.35
| Cass | 153.78
| Cedar | 117.01
| Chase | 52.20
| Cherry | 14.10
| Cheyenne | 23.69
| Clay | 136.26
| Colfax | 140.47
| Cuming | 142.40
| Custer | 50.37
| Dakota | 127.40
| Dawes | 19.74
| Dawson | 82.46
| Deuel | 26.51
| Dixon | 110.11
| Dodge | 148.97
| Douglas | 165.06
| Dundy | 36.07
| Fillmore | 146.35
| Franklin | 78.81
| Frontier | 38.96
| Furnas | 62.16
| Gage | 92.69
| Garden | 16.23
| Garfield | 26.32
| Gosper | 84.02
| Grant | 14.67
| Greeley | 85.72
| Hall | 118.67
| Hamilton | 171.13
| Harlan | 81.83
| Hayes | 34.35
| Hitchcock | 34.25
| Holt | 55.55
| Hooker | 11.75
| Howard | 78.28
| Jefferson | 104.27
| Johnson | 67.56
| Kearney | 140.24
| Keith | 49.35
| Keya Paha | 20.57
| Kimball | 23.03
| Knox | 73.64
| Lancaster | 121.59
| Lincoln | 38.13
| Logan | 30.17
| Loup | 19.68
| Madison | 127.89
| McPherson | 11.88
| Merrick | 101.88
| Morrill | 24.49
| Nance | 90.73
| Nemaha | 107.98
| Nuckolls | 100.15
| Otoe | 114.02
| Pawnee | 68.69
| Perkins | 60.30
| Phelps | 119.56
| Pierce | 114.79
| Platte | 135.06
| Polk | 157.76
| Red Willow | 42.31
| Richardson | 101.21
| Rock | 28.61
| Saline | 127.89
| Sarpy | 158.19
| Saunders | 139.84
| Scotts Bluff | 49.58
| Seward | 133.57
| Sheridan | 18.38
| Sherman | 62.89
| Sioux | 15.20
| Stanton | 116.15
| Thayer | 109.44
| Thomas | 13.34
| Thurston | 134.03
| Valley | 58.64
| Washington | 159.92
| Wayne | 116.08
| Webster | 75.13
| Wheeler | 32.52
| York | 149.50
Nevada | Carson City | 56.13
| Churchill | 20.34
| Clark | 46.95
| Douglas | 24.13
| Elko | 4.14
| Esmeralda | 14.99
| Eureka | 5.41
| Humboldt | 8.29
| Lander | 6.21
| Lincoln | 24.32
| Lyon | 18.36
| Mineral | 3.59
| Nye | 17.90
| Pershing | 7.80
| Storey | 321.14
| Washoe | 6.81
| White Pine | 6.84
New Hampshire | Belknap | 149.38
| Carroll | 129.93
| Cheshire | 80.06
| Coos | 65.26
| Grafton | 81.32
| Hillsborough | 177.62
| Merrimack | 108.67
| Rockingham | 203.12
| Strafford | 134.10
| Sullivan | 107.68
New Jersey | Atlantic | 320.54
| Bergen | 1,096.60
| Burlington | 252.02
| Camden | 327.37
| Cape May | 300.09
| Cumberland | 209.05
| Essex | 1,651.40
| Gloucester | 309.84
| Hudson | 332.84
| Hunterdon | 426.73
| Mercer | 528.43
| Middlesex | 512.20
| Monmouth | 561.50
| Morris | 602.25
| Ocean | 401.88
| Passaic | 811.83
| Salem | 205.41
| Somerset | 533.30
| Sussex | 277.68
| Union | 3,280.55
| Warren | 266.16
New Mexico | Bernalillo | 23.01
| Catron | 8.68
| Chaves | 7.31
| Cibola | 6.34
| Colfax | 8.04
| Curry | 11.75
| De Baca | 5.02
| Dona Ana | 36.34
| Eddy | 9.08
| Grant | 7.61
| Guadalupe | 5.40
| Harding | 5.73
| Hidalgo | 5.02
| Lea | 6.88
| Lincoln | 7.18
| Los Alamos | 309.92
| Luna | 8.60
| McKinley | 6.39
| Mora | 11.27
| Otero | 8.53
| Quay | 6.80
| Rio Arriba | 14.69
| Roosevelt | 9.90
| San Juan | 7.05
| San Miguel | 7.66
| Sandoval | 10.61
| Santa Fe | 17.18
| Sierra | 5.81
| Socorro | 10.00
| Taos | 23.80
| Torrance | 7.38
| Union | 7.46
| Valencia | 19.13
New York | Albany | 87.70
| Allegany | 49.53
| Bronx | 73.58
| Broome | 74.22
| Cattaraugus | 53.52
| Cayuga | 90.99
| Chautauqua | 58.44
| Chemung | 68.13
| Chenango | 51.93
| Clinton | 57.31
| Columbia | 147.80
| Cortland | 53.95
| Delaware | 70.54
| Dutchess | 146.81
| Erie | 83.73
| Essex | 59.71
| Franklin | 47.54
| Fulton | 60.78
| Genesee | 74.50
| Greene | 105.74
| Hamilton | 51.58
| Herkimer | 54.55
| Jefferson | 46.41
| Kings | 22,428.05
| Lewis | 47.26
| Livingston | 82.00
| Madison | 57.80
| Monroe | 100.50
| Montgomery | 65.06
| Nassau | 518.82
| New York | 73.58
| Niagara | 64.88
| Oneida | 56.35
| Onondaga | 89.29
| Ontario | 91.20
| Orange | 156.71
| Orleans | 73.51
| Oswego | 57.24
| Otsego | 63.53
| Putnam | 154.73
| Queens | 145.11
| Rensselaer | 97.25
| Richmond | 4,989.67
| Rockland | 2,451.27
| Saratoga | 135.59
| Schenectady | 97.74
| Schoharie | 64.49
| Schuyler | 80.87
| Seneca | 83.34
| St. Lawrence | 40.12
| Steuben | 51.90
| Suffolk | 331.04
| Sullivan | 104.22
| Tioga | 55.68
| Tompkins | 78.04
| Ulster | 142.70
| Warren | 113.13
| Washington | 68.66
| Wayne | 70.15
| Westchester | 455.71
| Wyoming | 74.08
| Yates | 111.96
North Carolina | Alamance | 133.61
| Alexander | 168.58
| Alleghany | 136.09
| Anson | 105.56
| Ashe | 161.17
| Avery | 197.45
| Beaufort | 86.61
| Bertie | 76.58
| Bladen | 93.27
| Brunswick | 121.92
| Buncombe | 243.74
| Burke | 150.69
| Cabarrus | 207.58
| Caldwell | 156.46
| Camden | 80.52
| Carteret | 93.16
| Caswell | 81.54
| Catawba | 153.03
| Chatham | 140.59
| Cherokee | 162.84
| Chowan | 89.80
| Clay | 141.41
| Cleveland | 116.65
| Columbus | 85.93
| Craven | 87.67
| Cumberland | 88.45
| Currituck | 115.83
| Dare | 109.31
| Davidson | 173.92
| Davie | 175.06
| Duplin | 115.51
| Durham | 243.07
| Edgecombe | 74.64
| Forsyth | 235.45
| Franklin | 121.04
| Gaston | 171.80
| Gates | 98.62
| Graham | 170.77
| Granville | 116.40
| Greene | 110.52
| Guilford | 175.27
| Halifax | 67.20
| Harnett | 151.57
| Haywood | 179.49
| Henderson | 221.25
| Hertford | 67.80
| Hoke | 90.79
| Hyde | 69.71
| Iredell | 170.42
| Jackson | 273.64
| Johnston | 138.36
| Jones | 75.59
| Lee | 118.45
| Lenoir | 95.64
| Lincoln | 157.88
| Macon | 216.25
| Madison | 153.41
| Martin | 79.88
| McDowell | 163.47
| Mecklenburg | 583.51
| Mitchell | 149.38
| Montgomery | 116.15
| Moore | 150.90
| Nash | 108.04
| New Hanover | 403.29
| Northampton | 74.17
| Onslow | 108.22
| Orange | 189.65
| Pamlico | 81.54
| Pasquotank | 89.51
| Pender | 119.83
| Perquimans | 91.96
| Person | 107.61
| Pitt | 90.15
| Polk | 207.79
| Randolph | 135.81
| Richmond | 116.72
| Robeson | 83.24
| Rockingham | 114.63
| Rowan | 160.32
| Rutherford | 114.34
| Sampson | 112.64
| Scotland | 102.02
| Stanly | 145.69
| Stokes | 109.03
| Surry | 130.00
| Swain | 178.28
| Transylvania | 250.44
| Tyrrell | 72.12
| Union | 160.04
| Vance | 98.05
| Wake | 271.34
| Warren | 72.62
| Washington | 85.51
| Watauga | 211.79
| Wayne | 116.86
| Wilkes | 137.23
| Wilson | 108.18
| Yadkin | 149.27
| Yancey | 183.70
North Dakota | Adams | 23.44
| Barnes | 64.98
| Benson | 37.58
| Billings | 22.90
| Bottineau | 39.29
| Bowman | 21.88
| Burke | 24.39
| Burleigh | 40.92
| Cass | 83.30
| Cavalier | 55.31
| Dickey | 65.53
| Divide | 18.79
| Dunn | 26.53
| Eddy | 38.89
| Emmons | 34.24
| Foster | 54.30
| Golden Valley | 24.50
| Grand Forks | 61.09
| Grant | 26.82
| Griggs | 53.03
| Hettinger | 32.60
| Kidder | 26.89
| LaMoure | 62.87
| Logan | 29.73
| McHenry | 26.13
| McIntosh | 34.20
| McKenzie | 21.44
| McLean | 38.16
| Mercer | 27.69
| Morton | 29.73
| Mountrail | 26.46
| Nelson | 34.16
| Oliver | 29.69
| Pembina | 74.94
| Pierce | 29.87
| Ramsey | 40.49
| Ransom | 53.13
| Renville | 47.03
| Richland | 86.35
| Rolette | 32.67
| Sargent | 68.98
| Sheridan | 27.18
| Sioux | 25.99
| Slope | 24.79
| Stark | 39.47
| Steele | 53.79
| Stutsman | 50.77
| Towner | 37.29
| Traill | 84.35
| Walsh | 69.13
| Ward | 44.70
| Wells | 47.03
| Williams | 21.66
Ohio | Adams | 83.08
| Allen | 153.36
| Ashland | 132.86
| Ashtabula | 95.06
| Athens | 80.72
| Auglaize | 175.42
| Belmont | 97.05
| Brown | 104.56
| Butler | 169.65
| Carroll | 107.90
| Champaign | 155.54
| Clark | 149.11
| Clermont | 148.21
| Clinton | 144.03
| Columbiana | 141.10
| Coshocton | 99.55
| Crawford | 135.87
| Cuyahoga | 496.68
| Darke | 206.00
| Defiance | 130.10
| Delaware | 172.33
| Erie | 136.63
| Fairfield | 138.52
| Fayette | 158.84
| Franklin | 178.54
| Fulton | 161.27
| Gallia | 94.44
| Geauga | 205.89
| Greene | 174.51
| Guernsey | 83.34
| Hamilton | 211.37
| Hancock | 137.32
| Hardin | 141.86
| Harrison | 87.29
| Henry | 163.84
| Highland | 105.03
| Hocking | 104.05
| Holmes | 169.00
| Huron | 130.18
| Jackson | 68.57
| Jefferson | 79.96
| Knox | 138.70
| Lake | 219.14
| Lawrence | 70.86
| Licking | 142.04
| Logan | 144.51
| Lorain | 136.34
| Lucas | 167.69
| Madison | 147.81
| Mahoning | 144.18
| Marion | 138.52
| Medina | 184.67
| Meigs | 70.46
| Mercer | 227.95
| Miami | 165.51
| Monroe | 66.97
| Montgomery | 170.01
| Morgan | 69.73
| Morrow | 135.91
| Muskingum | 94.69
| Noble | 73.94
| Ottawa | 137.94
| Paulding | 140.70
| Perry | 105.21
| Pickaway | 139.10
| Pike | 92.19
| Portage | 150.78
| Preble | 152.56
| Putnam | 145.96
| Richland | 144.03
| Ross | 104.71
| Sandusky | 136.67
| Scioto | 81.63
| Seneca | 141.42
| Shelby | 172.77
| Stark | 160.03
| Summit | 245.29
| Trumbull | 116.32
| Tuscarawas | 111.20
| Union | 149.08
| Van Wert | 182.17
| Vinton | 70.46
| Warren | 207.53
| Washington | 77.68
| Wayne | 181.04
| Williams | 111.09
| Wood | 168.96
| Wyandot | 145.96
Oklahoma | Adair | 56.90
| Alfalfa | 40.87
| Atoka | 40.15
| Beaver | 19.19
| Beckham | 31.77
| Blaine | 34.22
| Bryan | 50.93
| Caddo | 38.46
| Canadian | 55.39
| Carter | 45.40
| Cherokee | 68.15
| Choctaw | 42.31
| Cimarron | 14.52
| Cleveland | 89.86
| Coal | 36.23
| Comanche | 39.72
| Cotton | 32.39
| Craig | 45.79
| Creek | 51.40
| Custer | 38.53
| Delaware | 66.68
| Dewey | 29.11
| Ellis | 22.93
| Garfield | 41.23
| Garvin | 45.43
| Grady | 46.30
| Grant | 39.25
| Greer | 24.62
| Harmon | 27.39
| Harper | 21.89
| Haskell | 43.53
| Hughes | 35.87
| Jackson | 28.79
| Jefferson | 29.08
| Johnston | 38.64
| Kay | 38.89
| Kingfisher | 39.18
| Kiowa | 27.64
| Latimer | 38.32
| Le Flore | 57.08
| Lincoln | 49.57
| Logan | 54.17
| Love | 49.75
| Major | 32.28
| Marshall | 48.09
| Mayes | 60.74
| McClain | 58.73
| McCurtain | 50.11
| McIntosh | 44.32
| Murray | 39.86
| Muskogee | 50.75
| Noble | 40.98
| Nowata | 47.66
| Okfuskee | 36.70
| Oklahoma | 89.10
| Okmulgee | 51.79
| Osage | 30.34
| Ottawa | 66.32
| Pawnee | 38.28
| Payne | 54.38
| Pittsburg | 39.14
| Pontotoc | 50.57
| Pottawatomie | 50.50
| Pushmataha | 32.71
| Roger Mills | 29.65
| Rogers | 70.85
| Seminole | 40.58
| Sequoyah | 57.58
| Stephens | 36.45
| Texas | 23.00
| Tillman | 28.86
| Tulsa | 104.52
| Wagoner | 69.80
| Washington | 48.09
| Washita | 34.47
| Woods | 31.20
| Woodward | 31.85
Oregon | Baker | 20.75
| Benton | 121.45
| Clackamas | 276.09
| Clatsop | 113.57
| Columbia | 112.44
| Coos | 66.02
| Crook | 18.60
| Curry | 69.76
| Deschutes | 143.61
| Douglas | 63.13
| Gilliam | 10.18
| Grant | 16.48
| Harney | 11.21
| Hood River | 388.97
| Jackson | 95.86
| Jefferson | 13.13
| Josephine | 205.80
| Klamath | 30.20
| Lake | 20.83
| Lane | 139.70
| Lincoln | 98.16
| Linn | 99.08
| Malheur | 24.03
| Marion | 162.60
| Morrow | 19.47
| Multnomah | 244.18
| Polk | 125.72
| Sherman | 12.21
| Tillamook | 128.13
| Umatilla | 33.42
| Union | 31.68
| Wallowa | 25.85
| Wasco | 15.41
| Washington | 191.85
| Wheeler | 13.26
| Yamhill | 187.58
Pennsylvania | Adams | 178.38
| Allegheny | 150.79
| Armstrong | 82.28
| Beaver | 137.63
| Bedford | 105.68
| Berks | 253.54
| Blair | 130.65
| Bradford | 106.00
| Bucks | 351.46
| Butler | 135.87
| Cambria | 93.80
| Cameron | 55.95
| Carbon | 187.39
| Centre | 155.01
| Chester | 374.07
| Clarion | 84.47
| Clearfield | 75.81
| Clinton | 154.94
| Columbia | 134.30
| Crawford | 80.78
| Cumberland | 223.02
| Dauphin | 129.97
| Delaware | 394.89
| Elk | 97.88
| Erie | 98.38
| Fayette | 95.05
| Forest | 68.90
| Franklin | 190.22
| Fulton | 104.14
| Greene | 86.08
| Huntingdon | 109.69
| Indiana | 80.10
| Jefferson | 74.31
| Juniata | 144.21
| Lackawanna | 140.06
| Lancaster | 358.57
| Lawrence | 117.49
| Lebanon | 302.30
| Lehigh | 238.37
| Luzerne | 128.47
| Lycoming | 122.06
| McKean | 59.03
| Mercer | 97.88
| Mifflin | 140.45
| Monroe | 224.95
| Montgomery | 402.15
| Montour | 156.91
| Northampton | 235.19
| Northumberland | 140.17
| Perry | 144.57
| Philadelphia | 1,297.57
| Pike | 52.52
| Potter | 78.67
| Schuylkill | 184.21
| Snyder | 166.57
| Somerset | 75.31
| Sullivan | 88.26
| Susquehanna | 116.73
| Tioga | 98.38
| Union | 154.30
| Venango | 88.51
| Warren | 67.15
| Washington | 130.44
| Wayne | 106.75
| Westmoreland | 136.16
| Wyoming | 114.80
| York | 216.01
Puerto Rico | All Areas | 185.31
Rhode Island | Bristol | 630.91
| Kent | 212.86
| Newport | 548.98
| Providence | 358.30
| Washington | 292.91
South Carolina | Abbeville | 78.52
| Aiken | 107.53
| Allendale | 62.57
| Anderson | 123.59
| Bamberg | 62.68
| Barnwell | 68.97
| Beaufort | 95.72
| Berkeley | 100.95
| Calhoun | 79.06
| Charleston | 176.40
| Cherokee | 85.81
| Chester | 79.80
| Chesterfield | 77.50
| Clarendon | 52.07
| Colleton | 76.33
| Darlington | 69.75
| Dillon | 73.64
| Dorchester | 97.34
| Edgefield | 83.65
| Fairfield | 78.98
| Florence | 62.68
| Georgetown | 66.60
| Greenville | 183.86
| Greenwood | 68.13
| Hampton | 67.84
| Horry | 85.35
| Jasper | 76.90
| Kershaw | 86.52
| Lancaster | 111.39
| Laurens | 95.89
| Lee | 64.09
| Lexington | 112.73
| Marion | 65.86
| Marlboro | 61.37
| McCormick | 50.02
| Newberry | 76.72
| Oconee | 150.19
| Orangeburg | 71.52
| Pickens | 157.76
| Richland | 99.36
| Saluda | 80.72
| Spartanburg | 140.46
| Sumter | 65.65
| Union | 62.32
| Williamsburg | 59.04
| York | 142.37
South Dakota | Aurora | 68.50
| Beadle | 83.07
| Bennett | 16.39
| Bon Homme | 84.71
| Brookings | 123.61
| Brown | 84.63
| Brule | 66.07
| Buffalo | 34.30
| Butte | 17.95
| Campbell | 36.99
| Charles Mix | 68.24
| Clark | 73.50
| Clay | 128.29
| Codington | 77.85
| Corson | 18.96
| Custer | 33.25
| Davison | 98.41
| Day | 55.44
| Deuel | 85.61
| Dewey | 16.61
| Douglas | 82.78
| Edmunds | 63.60
| Fall River | 14.94
| Faulk | 56.42
| Grant | 86.81
| Gregory | 35.43
| Haakon | 17.44
| Hamlin | 103.63
| Hand | 55.33
| Hanson | 108.64
| Harding | 12.18
| Hughes | 56.93
| Hutchinson | 95.37
| Hyde | 40.32
| Jackson | 23.06
| Jerauld | 57.08
| Jones | 21.10
| Kingsbury | 96.27
| Lake | 118.39
| Lawrence | 41.16
| Lincoln | 157.81
| Lyman | 29.08
| Marshall | 64.83
| McCook | 123.22
| McPherson | 44.38
| Meade | 19.54
| Mellette | 20.74
| Miner | 93.19
| Minnehaha | 149.29
| Moody | 147.76
| Pennington | 20.27
| Perkins | 15.59
| Potter | 57.98
| Roberts | 73.43
| Sanborn | 68.97
| Shannon | 13.34
| Spink | 86.34
| Stanley | 26.62
| Sully | 45.25
| Todd | 14.83
| Tripp | 32.42
| Turner | 125.21
| Union | 145.41
| Walworth | 42.97
| Yankton | 120.17
| Ziebach | 13.78
Tennessee | Anderson | 169.66
| Bedford | 110.71
| Benton | 64.93
| Bledsoe | 101.58
| Blount | 197.33
| Bradley | 157.57
| Campbell | 108.24
| Cannon | 89.74
| Carroll | 70.98
| Carter | 151.74
| Cheatham | 123.71
| Chester | 55.84
| Claiborne | 88.83
| Clay | 80.50
| Cocke | 106.25
| Coffee | 102.56
| Crockett | 82.17
| Cumberland | 110.31
| Davidson | 180.24
| Decatur | 62.29
| DeKalb | 92.96
| Dickson | 96.44
| Dyer | 72.65
| Fayette | 91.01
| Fentress | 92.93
| Franklin | 112.92
| Gibson | 89.52
| Giles | 85.10
| Grainger | 110.16
| Greene | 117.41
| Grundy | 82.97
| Hamblen | 135.66
| Hamilton | 163.80
| Hancock | 66.56
| Hardeman | 73.99
| Hardin | 73.33
| Hawkins | 102.05
| Haywood | 104.51
| Henderson | 63.95
| Henry | 80.50
| Hickman | 69.35
| Houston | 65.73
| Humphreys | 82.39
| Jackson | 83.84
| Jefferson | 156.44
| Johnson | 138.01
| Knox | 222.21
| Lake | 95.35
| Lauderdale | 90.61
| Lawrence | 76.74
| Lewis | 75.40
| Lincoln | 97.67
| Loudon | 157.10
| Macon | 99.19
| Madison | 73.01
| Marion | 85.25
| Marshall | 87.42
| Maury | 105.71
| McMinn | 118.71
| McNairy | 62.51
| Meigs | 101.98
| Monroe | 130.59
| Montgomery | 124.87
| Moore | 102.20
| Morgan | 99.30
| Obion | 92.31
| Overton | 94.16
| Perry | 57.40
| Pickett | 84.16
| Polk | 129.50
| Putnam | 125.41
| Rhea | 101.36
| Roane | 147.32
| Robertson | 141.05
| Rutherford | 141.31
| Scott | 81.81
| Sequatchie | 93.76
| Sevier | 171.69
| Shelby | 132.87
| Smith | 76.99
| Stewart | 76.16
| Sullivan | 160.10
| Sumner | 140.91
| Tipton | 85.97
| Trousdale | 111.65
| Unicoi | 159.67
| Union | 83.65
| Van Buren | 107.81
| Warren | 103.39
| Washington | 185.92
| Wayne | 58.34
| Weakley | 86.23
| White | 109.11
| Williamson | 213.70
| Wilson | 128.42
Texas | Anderson | 67.55
| Andrews | 9.04
| Angelina | 87.19
| Aransas | 47.05
| Archer | 27.17
| Armstrong | 29.03
| Atascosa | 54.09
| Austin | 112.84
| Bailey | 22.23
| Bandera | 74.38
| Bastrop | 103.21
| Baylor | 28.68
| Bee | 51.53
| Bell | 84.57
| Bexar | 118.22
| Blanco | 130.54
| Borden | 16.15
| Bosque | 66.83
| Bowie | 62.65
| Brazoria | 83.84
| Brazos | 104.14
| Brewster | 12.94
| Briscoe | 23.02
| Brooks | 29.34
| Brown | 56.50
| Burleson | 79.32
| Burnet | 91.78
| Caldwell | 91.30
| Calhoun | 48.46
| Callahan | 41.70
| Cameron | 81.12
| Camp | 71.86
| Carson | 25.40
| Cass | 56.88
| Castro | 30.31
| Chambers | 55.12
| Cherokee | 68.21
| Childress | 21.23
| Clay | 43.56
| Cochran | 18.57
| Coke | 28.86
| Coleman | 41.77
| Collin | 146.42
| Collingsworth | 22.99
| Colorado | 91.37
| Comal | 144.90
| Comanche | 66.31
| Concho | 43.70
| Cooke | 90.23
| Coryell | 67.17
| Cottle | 17.09
| Crane | 16.29
| Crockett | 17.40
| Crosby | 23.61
| Culberson | 9.46
| Dallam | 26.03
| Dallas | 127.33
| Dawson | 21.78
| Deaf Smith | 27.30
| Delta | 50.43
| Denton | 168.75
| DeWitt | 72.14
| Dickens | 20.23
| Dimmit | 43.04
| Donley | 29.75
| Duval | 36.04
| Eastland | 54.88
| Ector | 13.36
| Edwards | 34.69
| El Paso | 53.50
| Ellis | 87.85
| Erath | 88.78
| Falls | 53.78
| Fannin | 70.73
| Fayette | 116.94
| Fisher | 29.89
| Floyd | 31.62
| Foard | 20.40
| Fort Bend | 113.08
| Franklin | 79.22
| Freestone | 57.99
| Frio | 56.40
| Gaines | 26.79
| Galveston | 99.51
| Garza | 19.16
| Gillespie | 117.63
| Glasscock | 24.71
| Goliad | 57.09
| Gonzales | 89.23
| Gray | 24.51
| Grayson | 103.76
| Gregg | 107.18
| Grimes | 106.73
| Guadalupe | 99.27
| Hale | 32.72
| Hall | 21.30
| Hamilton | 68.55
| Hansford | 25.54
| Hardeman | 24.16
| Hardin | 85.40
| Harris | 147.53
| Harrison | 78.56
| Hartley | 27.75
| Haskell | 20.43
| Hays | 171.21
| Hemphill | 20.43
| Henderson | 82.25
| Hidalgo | 83.88
| Hill | 62.20
| Hockley | 28.65
| Hood | 112.80
| Hopkins | 61.13
| Houston | 61.96
| Howard | 20.95
| Hudspeth | 15.53
| Hunt | 84.39
| Hutchinson | 21.06
| Irion | 25.92
| Jack | 54.02
| Jackson | 58.37
| Jasper | 86.95
| Jeff Davis | 13.25
| Jefferson | 45.77
| Jim Hogg | 36.86
| Jim Wells | 50.46
| Johnson | 112.60
| Jones | 30.72
| Karnes | 71.73
| Kaufman | 93.85
| Kendall | 132.20
| Kenedy | 18.16
| Kent | 23.58
| Kerr | 72.73
| Kimble | 48.95
| King | 16.78
| Kinney | 33.21
| Kleberg | 52.02
| Knox | 21.33
| La Salle | 53.92
| Lamar | 59.71
| Lamb | 31.96
| Lampasas | 69.35
| Lavaca | 80.94
| Lee | 88.33
| Leon | 69.21
| Liberty | 69.17
| Limestone | 52.22
| Lipscomb | 22.30
| Live Oak | 52.91
| Llano | 74.70
| Loving | 5.49
| Lubbock | 51.15
| Lynn | 24.85
| Madison | 77.28
| Marion | 61.41
| Martin | 28.51
| Mason | 65.38
| Matagorda | 54.74
| Maverick | 32.55
| McCulloch | 51.15
| McLennan | 71.55
| McMullen | 38.80
| Medina | 71.73
| Menard | 40.28
| Midland | 39.56
| Milam | 98.89
| Mills | 61.37
| Mitchell | 21.78
| Montague | 69.03
| Montgomery | 163.06
| Moore | 25.92
| Morris | 57.99
| Motley | 20.37
| Nacogdoches | 69.62
| Navarro | 56.68
| Newton | 55.33
| Nolan | 31.03
| Nueces | 42.77
| Ochiltree | 27.65
| Oldham | 16.29
| Orange | 91.75
| Palo Pinto | 66.48
| Panola | 58.02
| Parker | 138.41
| Parmer | 28.72
| Pecos | 14.01
| Polk | 75.45
| Potter | 15.12
| Presidio | 12.74
| Rains | 69.66
| Randall | 27.72
| Reagan | 13.43
| Real | 40.80
| Red River | 45.91
| Reeves | 7.42
| Refugio | 25.20
| Roberts | 18.16
| Robertson | 66.10
| Rockwall | 161.16
| Runnels | 35.73
| Rusk | 60.37
| Sabine | 75.04
| San Augustine | 63.79
| San Jacinto | 78.29
| San Patricio | 44.11
| San Saba | 67.31
| Schleicher | 25.58
| Scurry | 23.47
| Shackelford | 30.17
| Shelby | 80.84
| Sherman | 29.75
| Smith | 104.55
| Somervell | 107.52
| Starr | 48.88
| Stephens | 38.62
| Sterling | 14.57
| Stonewall | 19.85
| Sutton | 26.06
| Swisher | 25.44
| Tarrant | 175.04
| Taylor | 31.27
| Terrell | 10.73
| Terry | 31.45
| Throckmorton | 33.10
| Titus | 71.11
| Tom Green | 31.48
| Travis | 105.97
| Trinity | 63.99
| Tyler | 80.74
| Upshur | 79.04
| Upton | 16.22
| Uvalde | 55.19
| Val Verde | 15.74
| Van Zandt | 88.12
| Victoria | 63.30
| Walker | 91.92
| Waller | 172.45
| Ward | 10.22
| Washington | 153.22
| Webb | 29.89
| Wharton | 70.17
| Wheeler | 22.68
| Wichita | 32.93
| Wilbarger | 27.61
| Willacy | 50.46
| Williamson | 107.28
| Wilson | 82.50
| Winkler | 10.01
| Wise | 105.35
| Wood | 78.77
| Yoakum | 22.33
| Young | 38.21
| Zapata | 32.27
| Zavala | 42.39
Utah | Beaver | 22.60
| Box Elder | 13.61
| Cache | 39.93
| Carbon | 13.78
| Daggett | 24.17
| Davis | 73.36
| Duchesne | 9.42
| Emery | 19.23
| Garfield | 25.73
| Grand | 6.55
| Iron | 21.34
| Juab | 13.58
| Kane | 15.95
| Millard | 15.90
| Morgan | 17.82
| Piute | 33.17
| Rich | 11.39
| Salt Lake | 53.53
| San Juan | 4.23
| Sanpete | 24.35
| Sevier | 34.16
| Summit | 25.81
| Tooele | 13.51
| Uintah | 7.16
| Utah | 60.32
| Wasatch | 43.19
| Washington | 41.37
| Wayne | 45.68
| Weber | 65.88
Vermont | Addison | 86.83
| Bennington | 119.13
| Caledonia | 90.78
| Chittenden | 122.59
| Essex | 53.13
| Franklin | 79.91
| Grand Isle | 108.58
| Lamoille | 103.98
| Orange | 88.36
| Orleans | 69.39
| Rutland | 77.52
| Washington | 114.46
| Windham | 114.03
| Windsor | 108.26
Virginia | Accomack | 105.46
| Albemarle | 251.95
| Alleghany | 89.41
| Amelia | 88.19
| Amherst | 104.92
| Appomattox | 81.93
| Arlington | 1,546.99
| Augusta | 180.02
| Bath | 119.88
| Bedford | 127.47
| Bland | 92.80
| Botetourt | 125.74
| Brunswick | 60.07
| Buchanan | 76.03
| Buckingham | 88.55
| Campbell | 85.89
| Caroline | 118.76
| Carroll | 98.01
| Charles City | 108.08
| Charlotte | 65.35
| Chesapeake City | 125.31
| Chesterfield | 153.33
| Clarke | 226.74
| Craig | 91.21
| Culpeper | 185.59
| Cumberland | 103.23
| Dickenson | 85.39
| Dinwiddie | 86.39
| Essex | 87.62
| Fairfax | 436.10
| Fauquier | 228.32
| Floyd | 104.23
| Fluvanna | 146.67
| Franklin | 101.97
| Frederick | 169.84
| Giles | 76.03
| Gloucester | 144.66
| Goochland | 157.03
| Grayson | 120.71
| Greene | 197.96
| Greensville | 58.37
| Halifax | 66.11
| Hanover | 160.16
| Henrico | 189.26
| Henry | 77.69
| Highland | 97.26
| Isle of Wight | 102.33
| James City | 252.24
| King and Queen | 88.87
| King George | 144.80
| King William | 107.43
| Lancaster | 131.75
| Lee | 63.37
| Loudoun | 344.64
| Louisa | 164.66
| Lunenburg | 68.48
| Madison | 181.74
| Mathews | 178.18
| Mecklenburg | 74.09
| Middlesex | 110.92
| Montgomery | 140.34
| Nelson | 131.82
| New Kent | 158.98
| Northampton | 124.27
| Northumberland | 86.36
| Nottoway | 89.77
| Orange | 194.12
| Page | 169.23
| Patrick | 96.00
| Pittsylvania | 69.92
| Powhatan | 164.84
| Prince Edward | 92.15
| Prince George | 120.92
| Prince William | 254.00
| Pulaski | 88.44
| Rappahannock | 242.92
| Richmond | 82.94
| Roanoke | 123.01
| Rockbridge | 123.62
| Rockingham | 203.00
| Russell | 62.48
| Scott | 59.74
| Shenandoah | 160.56
| Smyth | 80.24
| Southampton | 76.75
| Spotsylvania | 176.38
| Stafford | 263.78
| Suffolk | 130.09
| Surry | 103.05
| Sussex | 65.53
| Tazewell | 63.73
| Virginia Beach City | 153.00
| Warren | 205.37
| Washington | 113.26
| Westmoreland | 102.90
| Wise | 79.31
| Wythe | 97.44
| York | 143.62
Washington | Adams | 21.75
| Asotin | 15.04
| Benton | 48.35
| Chelan | 154.73
| Clallam | 220.15
| Clark | 223.48
| Columbia | 19.01
| Cowlitz | 153.54
| Douglas | 17.99
| Ferry | 7.51
| Franklin | 51.71
| Garfield | 16.74
| Grant | 60.54
| Grays Harbor | 37.14
| Island | 251.46
| Jefferson | 161.37
| King | 378.56
| Kitsap | 467.12
| Kittitas | 78.09
| Klickitat | 25.17
| Lewis | 111.17
| Lincoln | 19.65
| Mason | 146.51
| Okanogan | 23.43
| Pacific | 61.05
| Pend Oreille | 53.94
| Pierce | 251.21
| San Juan | 233.64
| Skagit | 133.97
| Skamania | 179.57
| Snohomish | 283.56
| Spokane | 50.23
| Stevens | 27.78
| Thurston | 153.47
| Wahkiakum | 82.88
| Walla Walla | 36.85
| Whatcom | 204.07
| Whitman | 24.68
| Yakima | 31.84
West Virginia | Barbour | 56.65
| Berkeley | 166.84
| Boone | 50.31
| Braxton | 47.38
| Brooke | 56.43
| Cabell | 86.86
| Calhoun | 44.08
| Clay | 54.26
| Doddridge | 54.55
| Fayette | 71.21
| Gilmer | 42.67
| Grant | 68.89
| Greenbrier | 82.22
| Hampshire | 104.36
| Hancock | 84.98
| Hardy | 82.22
| Harrison | 61.40
| Jackson | 63.97
| Jefferson | 199.15
| Kanawha | 62.74
| Lewis | 57.05
| Lincoln | 58.57
| Logan | 56.47
| Marion | 62.45
| Marshall | 63.71
| Mason | 61.25
| McDowell | 69.51
| Mercer | 64.40
| Mineral | 87.11
| Mingo | 41.08
| Monongalia | 89.54
| Monroe | 66.14
| Morgan | 129.53
| Nicholas | 73.97
| Ohio | 67.01
| Pendleton | 67.41
| Pleasants | 56.00
| Pocahontas | 63.79
| Preston | 71.50
| Putnam | 74.07
| Raleigh | 72.08
| Randolph | 52.59
| Ritchie | 46.33
| Roane | 49.73
| Summers | 63.68
| Taylor | 71.90
| Tucker | 88.64
| Tyler | 53.21
| Upshur | 67.23
| Wayne | 54.48
| Webster | 63.57
| Wetzel | 52.92
| Wirt | 47.60
| Wood | 67.59
| Wyoming | 60.06
Wisconsin | Adams | 110.38
| Ashland | 52.40
| Barron | 79.64
| Bayfield | 57.80
| Brown | 154.38
| Buffalo | 95.76
| Burnett | 69.97
| Calumet | 157.08
| Chippewa | 77.62
| Clark | 88.96
| Columbia | 143.50
| Crawford | 77.01
| Dane | 172.38
| Dodge | 152.39
| Door | 115.82
| Douglas | 49.44
| Dunn | 94.37
| Eau Claire | 85.44
| Florence | 88.64
| Fond du Lac | 142.32
| Forest | 58.59
| Grant | 118.45
| Green | 124.50
| Green Lake | 129.30
| Iowa | 113.58
| Iron | 65.66
| Jackson | 88.00
| Jefferson | 147.51
| Juneau | 87.61
| Kenosha | 143.35
| Kewaunee | 123.82
| La Crosse | 95.19
| Lafayette | 139.30
| Langlade | 78.79
| Lincoln | 70.32
| Manitowoc | 150.22
| Marathon | 82.99
| Marinette | 86.37
| Marquette | 97.57
| Menominee | 36.57
| Milwaukee | 269.17
| Monroe | 91.24
| Oconto | 93.13
| Oneida | 119.24
| Outagamie | 150.00
| Ozaukee | 159.57
| Pepin | 93.52
| Pierce | 112.62
| Polk | 81.14
| Portage | 93.70
| Price | 54.10
| Racine | 155.09
| Richland | 85.69
| Rock | 157.15
| Rusk | 57.95
| Sauk | 110.45
| Sawyer | 65.24
| Shawano | 102.23
| Sheboygan | 149.19
| St. Croix | 119.59
| Taylor | 62.29
| Trempealeau | 90.99
| Vernon | 93.94
| Vilas | 152.32
| Walworth | 174.55
| Washburn | 70.64
| Washington | 165.98
| Waukesha | 185.75
| Waupaca | 109.31
| Waushara | 98.43
| Winnebago | 119.63
| Wood | 89.57
Wyoming | Albany | 10.23
| Big Horn | 27.79
| Campbell | 10.53
| Carbon | 10.23
| Converse | 6.87
| Crook | 16.15
| Fremont | 15.83
| Goshen | 14.14
| Hot Springs | 12.71
| Johnson | 11.05
| Laramie | 13.08
| Lincoln | 32.75
| Natrona | 11.35
| Niobrara | 9.76
| Park | 25.49
| Platte | 13.08
| Sheridan | 14.99
| Sublette | 24.47
| Sweetwater | 3.68
| Teton | 57.88
| Uinta | 13.37
| Washakie | 16.15
| Weston | 8.51

[FR Doc. 2020-01455 Filed 2-5-20; 8:45 am]

BILLING CODE 6717-01-P